DEPARTMENT OF HOMELAND SECURITY

Federal Emergency Management Agency

[Docket ID FEMA-2018-0002; Internal Agency Docket No. FEMA-B-1806]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 7, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1806, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: February 6, 2018.
Roy E. Wright,
Deputy Associate Administrator for Insurance and Mitigation, Department of Homeland Security, Federal Emergency Management Agency.

Community | Community map repository address
Lenawee County, Michigan (All Jurisdictions)
Project: 12-05-0261S Preliminary Dates: August 5, 2016 and December 12, 2017
Charter Township of Adrian | Township Hall, 2907 Tipton Highway, Adrian, MI 49221.
Charter Township of Madison | Township Hall, 4008 South Adrian Highway, Adrian, MI 49221.
Charter Township of Raisin | Township Offices, 5525 Occidental Highway, Tecumseh, MI 49286.
City of Adrian | City Hall, 135 East Maumee Street, Adrian, MI 49221.
City of Hudson | City Hall, 121 North Church Street, Hudson, MI 49247.
City of Tecumseh | City Hall, 309 East Chicago Boulevard, Tecumseh, MI 49286.
Township of Blissfield | 120 South Lane Street, Blissfield, MI 49228.
Township of Cambridge | Township Hall, 9990 West M50, Onsted, MI 49265.
Township of Clinton | Township Hall, 172 West Michigan Avenue, Clinton, MI 49236.
Township of Deerfield | Township Hall, 468 Carey Street, Deerfield, MI 49238.
Township of Franklin | Township Hall, 3922 Monroe Road, Tipton, MI 49287.
Township of Hudson | Township Hall, 14510 Carleton Road, Hudson, MI 49247.
Township of Ogden | Township Hall, 10128 Pence Highway, Blissfield, MI 49228.
Township of Palmyra | 4276 Main Street, Palmyra, MI 49268.
Township of Riga | Township Hall, 7817 Riga Highway, Riga, MI 49276.
Township of Rome | Township Office, 9344 Forrister Road, Adrian, MI 49221.
Township of Tecumseh | 7750 Hendershot Highway, Tecumseh, MI 49286.
Township of Woodstock | Township Hall, 6486 Devils Lake Highway, Addison, MI 49220.
Village of Blissfield | Village Hall, 130 South Lane Street, Blissfield, MI 49228.
Village of Cement City | 135 Main Street, Cement City, MI 49233.
Village of Clinton | Village Office, 119 East Michigan Avenue, Clinton, MI 49236.
Village of Deerfield | Municipal Building, 101 West River Street, Deerfield, MI 49238.
Ashtabula County, Ohio and Incorporated Areas
Project: 13-05-1793S Preliminary Date: September 29, 2017
City of Ashtabula | City Hall, 4717 Main Avenue, Ashtabula, OH 44004.
City of Conneaut | City Hall, 294 Main Street, Conneaut, OH 44030.
Unincorporated Areas of Ashtabula County | Building Department, 25 West Jefferson Street, Jefferson, OH 44047.
Village of Geneva-on-the-Lake | Village Hall, 4929 South Warner Drive, Geneva-on-the-Lake, OH 44041.
Village of North Kingsville | Municipal Building, 3541 East Center Street, North Kingsville, OH 44068.
Erie County, Ohio and Incorporated Areas
Project: 13-05-1797S Preliminary Date: October 18, 2017
City of Huron | Huron Township Station, 1820 Bogart Road, Huron, OH 44839.
City of Sandusky | City Hall, 222 Meigs Street, Sandusky, OH 44870.
Unincorporated Areas of Erie County | Erie Regional Planning Commission, 2900 Columbus Avenue, Sandusky, OH 44870.
Village of Bay View | Village Hall, 304 East Bay View Drive, Bay View, OH 44870.
Village of Kelleys Island | Municipal Building, 121 Addison Street, Kelleys Island, OH 43438.
Lake County, Ohio and Incorporated Areas
Project: 13-05-1798S Preliminary Date: September 29, 2017
City of Eastlake | City Hall, 35150 Lakeshore Boulevard, Eastlake, OH 44095.
City of Mentor | Municipal Center, 8500 Civic Center Boulevard, Mentor, OH 44060.
City of Mentor-on-the-Lake | City Hall, 5860 Andrews Road, Mentor-on-the-Lake, OH 44060.
City of Willoughby | City Hall, One Public Square, Willoughby, OH 44094.
City of Willowick | City Hall, 30435 Lakeshore Boulevard, Willowick, OH 44095.
Unincorporated Areas of Lake County | County Engineer's Office, 550 Blackbrook Road, Painesville, OH 44077.
Village of Fairport Harbor | Village Hall, 220 Third Street, Fairport Harbor, OH 44077.
Village of Grand River | Village Hall, 205 Singer Avenue, Grand River, OH 44045.
Village of Lakeline | Village Hall, 33801 Lakeshore Boulevard, Lakeline, OH 44095.
Village of North Perry | Village Hall, 4449 Lockwood Road, North Perry, OH 44081.
Village of Timberlake | Municipal Building, 11 East Shore Boulevard, Timberlake, OH 44095.
Lorain County, Ohio and Incorporated Areas
Project: 13-05-1799S Preliminary Date: October 18, 2017
City of Avon Lake | City Hall, Engineering and Public Works Department, 150 Avon Belden Road, Avon Lake, OH 44012.
City of Lorain | City Hall, Engineering Department, 200 West Erie Avenue, 4th Floor, Lorain, OH 44052.
City of Sheffield Lake | Building/Fire Department, 4750 Richelieu Avenue, Sheffield Lake, OH 44054.
City of Vermillion | City Hall, 5511 Liberty Avenue, Vermillion, OH 44089.
Ottawa County, Ohio and Incorporated Areas
Project: 13-05-1802S Preliminary Date: October 18, 2017
City of Port Clinton | City Hall, 1868 East Perry Street, Port Clinton, OH 43452.
Unincorporated Areas of Ottawa County | Regional Planning Office, 315 Madison Street, Room 107, Port Clinton, OH 43452.
Village of Marblehead | Village Hall, 513 West Main Street, Marblehead, OH 43440.
Village of Put-in-Bay | Village Hall, 157 Concord Avenue, Put-in-Bay, OH 43456.
Sandusky County, Ohio and Incorporated Areas
Project: 13-05-1803S Preliminary Date: October 18, 2017
Unincorporated Areas of Sandusky County | Regional Planning Commission, 2511 Countryside Drive, Suite C, Fremont, OH 43420.
King County, Washington and Incorporated Areas
Project: 15-10-0643S Preliminary Date: September 15, 2017
City of Auburn | City Hall Annex, Planning and Development Department, Permit Center, 1 East Main Street, 2nd Floor, Auburn, WA 98001.
City of Bellevue | City Hall, 450 110th Avenue Northeast, Bellevue, WA 98004.
City of Kent | Public Works Engineering, 400 West Gowe Street, Kent, WA 98032.
City of Renton | City Hall, 1055 South Grady Way, Renton, WA 98057.
City of Tukwila | Public Works Department, 6300 Southcenter Boulevard, Tukwila, WA 98188.
Muckleshoot Indian Tribe | Philip Starr Building, 39015 172nd Avenue Southeast, Auburn, WA 98092.
Unincorporated Areas of King County | Department of Natural Resources and Parks, Water and Land Resources Division, 201 South Jackson Street, Suite 600, Seattle, WA 98104.

[FR Doc. 2018-04782 Filed 3-8-18; 8:45 am]

BILLING CODE 9110-12-P